DEPARTMENT OF LABOR

Employment and Training Administration

[TA-W-80,490]

Amended Certification Regarding Eligibility To Apply for Worker Adjustment Assistance; Novartis Pharmaceuticals Corporation, Primary Care Business Unit (Sales) Division, Including On-Site Leased Workers From Inventiv Health, Ashfield Healthcare, and Pro Unlimited and Including Off-Site Workers In Illinois Reporting to This Location, East Hanover, NJ

In accordance with Section 223 of the Trade Act of 1974, as amended (“Act”), 19 U.S.C. 2273, the Department of Labor issued a Certification of Eligibility to Apply for Worker Adjustment Assistance on January 6, 2012, applicable to workers of Novartis Pharmaceuticals Corporation, Primary Care Business Unit (Sales) Division, East Hanover, New Jersey. The Department's notice of determination was published in the Federal Register on January 24, 2012 (77 FR 3501).

At the request of an Illinois State Workforce Official, the Department reviewed the certification for workers of the subject firm. The workers are engaged in sales of pharmaceuticals.

New information shows that worker separations have occurred involving employees under the control of the subject firm working off-site in Illinois. The employees support the Novartis Pharmaceuticals Corporation, Primary Care Business Unit (Sales) Division, East Hanover, New in sales of pharmaceuticals.

The intent of the Department's certification is to include all workers of the subject firm who were adversely affected by increased imports.

Based on these findings, the Department is amending this certification to include employees of the subject firm's employees working off-site in Illinois.

The amended notice applicable to TA-W-80,490 is hereby issued as follows:

All workers of Novartis Pharmaceuticals Corporation, Primary Care Business Unit (Sales) Division, East Hanover, New Jersey, including employees working off-site in Illinois, who became totally or partially separated from employment on or after October 3, 2010, through January 6, 2014, and all workers in the group threatened with total or partial separation from employment on date of certification through two years from the date of certification, are eligible to apply for adjustment assistance under Chapter 2 of Title II of the Trade Act of 1974, as amended.

Signed in Washington, DC, this 4th day of May 2012.
Michael W. Jaffe,
Certifying Officer, Office of Trade Adjustment Assistance.

[FR Doc. 2012-11816 Filed 5-15-12; 8:45 am]

BILLING CODE 4510-FN-P